DEPARTMENT OF THE INTERIOR

Bureau of Land Management

[CA-610-1610-DP]

West Mojave Planning Area; California Desert Conservation Area Plan and Enviromental Assessment Off-Road Vehicle Designations

AGENCY: Bureau of Land Management, Department of the Interior.

ACTION: Notice of availability of draft amendment to the California Desert Conservation Area (CDCA) Plan and Environmental Assessment (EA) for off-road vehicle designations in West Mojave Planning Area.

SUMMARY: Off-road vehicle designations are being considered by the California Desert District of the Bureau of Land Management (BLM) for the West Mojave Desert Planning Area in accordance with the criteria and procedures of 43 Code of Federal Regulations subpart 8342. These designations, when approved by BLM, will amend the existing designations established under the CDCA plan in the West Mojave Area. This planning area encompasses approximately 3.3 million acres of public land managed by the BLM's California Desert District, located in Inyo, Kern, Los Angeles and San Bernardino Counties in southern California.

DATES: This notice initiates the public review process on the Draft Off-Road Vehicle Designation Plan Amendment and EA. The public is invited to review and comment on the document. The comment period will end 30 days after publication of this notice in the Federal Register. Comments on the Draft Plan Amendment should be received on or before the end of the comment period at the address listed below.

Written comments should be sent to the Bureau of Land Management, California Desert District Office, Attn. West Mojave Plan Staff, 22835 Calle San Juan De Los Lagos, Moreno Valley, CA 92553. For comments to be most helpful they should relate to specific concerns or conflicts that are within the legal responsibilities of the BLM and are feasible to be resolved in this planning process.

Documents pertinent to this proposal may be examined at the BLM California Desert District Office, the BLM Ridgecrest Field Office, 300 South Richmond Road, Ridgecrest, California 93555, and the BLM Barstow Field Office, 2601 Barstow Road, Barstow, California 92311during regular business hours from 7:45 a.m. to 4 p.m., Monday through Friday, except holidays. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

SUPPLEMENTARY INFORMATION: The West Mojave Off-Road Vehicle Designations would establish a network of motorized vehicle routes that would provide access to more than 3.3 million acres of public lands administered by the BLM within Inyo, Kern, Los Angeles and San Bernardino Counties, all of which are within the State of California. The BLM's Ridgecrest and Barstow field offices administer most of these public lands. A small amount of acreage administered by the BLM's Needles and Palm Springs field offices is also affected. All public lands are within the California Desert Conservation Area, and all lie within the jurisdiction of the BLM's California Desert District.

Motorized vehicle access would be provided for recreational and commercial pursuits, and to enable private property owners to visit their lands. The network was developed with the assistance of the public, and was based upon the results of a comprehensive field inventory that identified the location of routes, type of routes, and destination points. The network is designed to be compatible with the conservation of the desert's natural and cultural resources, including sensitive plants and animals.

The West Mojave Off-Road Vehicle Designations would complement the bioregional conservation strategy that is currently being developed for these same public lands through the West Mojave planning process. A “West Mojave Plan” plan is being prepared by the BLM in collaboration with state agencies and local jurisdictions. When completed, it will present strategies for conserving the threatened desert tortoise, the Mohave ground squirrel and nearly 100 other sensitive species, while providing a streamlined program for compliance with the California and federal endangered species acts. The West Mojave Off-Road Vehicle Designations have been closely coordinated with the preparation of the West Mojave Plan, to ensure that they are mutually compatible. An Environmental Impact Statement for the West Mojave Plan will be available for a 90-day public review during the spring of 2003. The West Mojave Plan EIS will review the impacts of the West Mojave Off-Road Vehicle Designations to ensure that any additional cumulative impacts resulting from the West Mojave Plan are addressed. A final decision regarding the West Mojave Off-Road Vehicle Designations will be made by the end of June 2003.

FOR FURTHER INFORMATION CONTACT: For further information and/or to have your name added to our mailing list, contact William Haigh, Project Manager, at (760) 252-6080 (Phone), e-mail at whaigh@ca.blm.gov.

Dated: February 20, 2003.
Linda Hansen,
District Manager, California Desert District.

[FR Doc. 03-6779 Filed 3-20-03; 8:45 am]

BILLING CODE 4310-40-P